DEPARTMENT OF COMMERCE.

International Trade Administration

A-357-810

Oil Country Tubular Goods, Other Than Drill Pipe, from Argentina; Notice of Rescission of Antidumping Duty Administrative Review

AGENCY: Import Administration, International Trade Administration, Department of Commerce.

SUMMARY: In response to a request from the petitioner, the Department of Commerce (the Department) initiated an administrative review of the antidumping duty order on oil country tubular goods (OCTG) from Argentina. This review covers one manufacturer/exporter of the subject merchandise, Siderca S.A.I.C. (Siderca). The Department is now rescinding this review based on record evidence indicating the respondent had no entries of subject merchandise during the period of review (POR). The POR is August 1, 2005 through July 31, 2006.

EFFECTIVE DATE: January 10, 2007.

FOR FURTHER INFORMATION CONTACT: Fred Baker or Robert James, AD/CVD Operations, Office 7, Import Administration, International Trade Administration, U.S. Department of Commerce, 14th Street and Constitution Avenue, N.W., Washington, D.C. 20230; telephone (202) 482 2924 (Baker), (202) 482-0649 (James).

SUPPLEMENTARY INFORMATION:

Background

On August 11, 1995, the Department published the antidumping duty order on OCTG from Argentina. See Antidumping Duty Order: Oil Country Tubular Goods from Argentina, 60 FR 41055 (August 11, 1995). On August 1, 2006, we published in the Federal Register a notice of opportunity to request administrative reviews. See Antidumping and Countervailing Duty Order, Finding, or Suspended Investigation; Opportunity to Request Administrative Review, 71 FR 43441 (August 1, 2006). On August 31, 2006, United States Steel Corporation (petitioner) requested that the Department conduct an administrative review of sales of the subject merchandise made by Siderca.

On September 29, 2006, the Department published a notice of initiation of this administrative review. See Initiation of Antidumping and Countervailing Duty Administrative Reviews and Requests for Revocation in Part, 71 FR 57465 (September 29, 2006). The Department issued its antidumping duty questionnaire to Siderca on October 13, 2006. In response, Siderca stated in a November 1, 2006, submission that it had no entries for consumption of subject merchandise of OCTG during the POR, and requested that the Department rescind the administrative review with respect to Siderca.

On October 30, 2006, the Department placed on the record of the review copies of documents regarding entries of subject merchandise from Argentina that it obtained from U. S. Customs and Border Protection (CBP). On November 20, 2006, the Department issued a letter to petitioners, domestic interested parties, and Siderca stating that the Department intended to rescind the review for want of a reviewable consumption entry by Siderca. We invited parties to submit comments on our intent to rescind the review. We requested that any comments be submitted by December 1, 2006. We received no comments.

Period of Review

The POR is August 1, 2005, through July 31, 2006.

Scope of the Review

OCTG are hollow steel products of circular cross-section, including oil well casing and tubing of iron (other than cast iron) or steel (both carbon and alloy), whether seamless or welded, whether or not conforming to American Petroleum Institute (API) or non-API specifications, whether finished or unfinished (including green tubes and limited service OCTG products).

This scope does not cover casing or tubing pipe containing 10.5 percent or more of chromium. Drill pipe was excluded from this order beginning August 11, 2001. See Continuation of Countervailing and Antidumping Duty Orders on Oil Country Tubular Goods From Argentina, Italy, Japan, Korea and Mexico, and Partial Revocation of Those Orders From Argentina and Mexico With Respect to Drill Pipe, 66 FR 38630 (July 25, 2001).

The OCTG subject to this order are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

The HTSUS subheadings are provided for convenience and customs purposes. Our written description of the scope of this order is dispositive.

Rescission of Review

On November 1, 2006, Siderca informed the Department that it did not ship OCTG to the United States during the POR, and requested that we rescind the administrative review. The Department subsequently obtained and reviewed entry documents from CBP, and found no evidence that Siderca had knowledge that any of its production was destined for the United States. In a November 20, 2006, letter to parties, we requested comments from parties on this determination, and received no comments. Therefore, based on our review of CBP documents, we are satisfied there were no entries of subject merchandise subject to this administrative review. Accordingly, we are rescinding the review.

Pursuant to 19 CFR 351.213(d)(3), the Department may rescind an administrative review, in whole or with respect to a particular exporter or producer, if the Secretary concludes that, during the period covered by the review, there were no entries, exports, or sales of the subject merchandise. Because the evidence on the record shows that there were no entries of OCTG made by Siderca during the POR, the Department is rescinding this review in accordance with 19 CFR 351.213(d)(3). The Department will issue appropriate assessment instructions to CBP within fifteen days of publication of this notice.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties. This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

We are issuing and publishing this notice in accordance with sections 751(a)(1) of the Tariff Act of 1930 (as amended) and 19 CFR 351.213(d)(4).

Dated: January 3, 2007.
Stephen J. Claeys
Deputy Assistant Secretary for Import Administration

[FR Doc. E7-193 Filed 1-9-07; 8:45 am]

BILLING CODE 3510-DS-S